DEPARTMENT OF HEALTH AND HUMAN SERVICES

Indian Health Service

American Indians into Psychology; Notice of Competitive Grant Applications for American Indians Into Psychology Program

Announcement Type: New.

Funding Opportunity Number: HHS-IHS-2007-INPSY-0001.

CFDA Number: 92.970.

Key Dates:

Application Deadline: May 7, 2007.

Application Review: May 30, 2007.

Application Notification: June 22, 2007.

Anticipated Award Start Date: August 1, 2007.

I. Funding Opportunity Description

The Indian Health Service (IHS) announces that competitive grant applications are being accepted for the American Indians into Psychology Program. This grant is established under the authority of “25 U.S.C. 1621p(a-d).”, Indian Health Care Improvement Act, Pub. L. 94-437, as amended by Pub. L. 102-573. The purpose of the Indians into Psychology Program is to augment the number of Indian health professionals serving Indians by encouraging Indians to enter the health professions and removing the multiple barriers to their entrance into IHS and private practice among Indians. This program is described at 93.970 in the Catalog of Federal Domestic Assistance. Costs will be determined in accordance with applicable Office of Management and Budget Circulars. The Public Health Service (PHS) is committed to achieving the health promotion and disease prevention objectives of Health People 2010, a PHS-led activity for setting priority areas. This program announcement is related to the priority area of Educational and Community-based programs. Potential applicants may obtain a copy of Healthy People 2010, summary report in print, Stock No. 017-001-00547-9, or via CD-ROM, Stock No. 107-0017-00549-5, through the Superintendent of Documents, Government Printing Office, P.O. Box 371954, Pittsburgh, PA 15250-7945, (202) 512-1800. You may access this information via the Internet at the following Web site: http://www.health.gov/healthypeople

The Public Health Service strongly encourages all grant and contract recipients to provide a smoke-free workplace and promote the non-use of all tobacco products. In addition, Pub. L. 103-227, the Pro-Children Act of 1994, prohibits smoking in certain facilities (or in some cases, any portion of the facility) in which regular or routine education, library, day care, health care, or early childhood development services are provided to children. This is consistent with the PHS mission to protect and advance the physical and mental health of the American people.

II. Award Information

Type of Awards: Grant.

Estimated Funds Available: the total amount identified for Fiscal year 2007 is $246,332. The award is for 12 months in duration and the average award is approximately $246,322. Awards under this announcement are subject to the availability of funds.

Anticipated Number of Awards: An estimated 1 award will be made under the program. If funding becomes available, additional awards may be made.

Project Period: 36 months.

Award Amount: $246,322, per year.

III. Eligibility Information

1. Eligible Applicants:

Public and nonprofit private colleges and universities are eligible to apply for a grant. However, only one grant will be awarded and funded to a college or university per funding cycle.

2. Cost Sharing/Matching:

This announcement does not require matching funds or cost sharing.

3. Other Requirements:

Required Affiliations—The grant applicant must submit official documentation indicating a Tribe's cooperation with and support of the program within the schools on its reservation and its willingness to have a Tribal representative serving on the program advisory board. Documentation must be in the form prescribed by the Tribe's governing body, i.e., letter of support or Tribal resolution. Documentation must be submitted from every Tribe involved in the grant program. If application budgets exceed the stated dollar amount that is outlined within this announcement it will not be considered for funding.

IV. Applicant and Submission Information

1. Applicant package may be found in Grants.gov (www.grants.gov) or at http://www.ihs.gov/NonMedicalPrograms/gogp/gogp_funding.asp. Information regarding the electronic application process may be directed to Michelle G. Bulls, at (301) 443 6528 or Michelle-Bulls@ihs.gov. The entire application package is available at: http://www.grants.gov/Apply. Detailed application instructions for this announcement are downloadable on www.Grants.gov

2. Content and Form of Application Submission:

• Be single spaced.

• By typewritten.

• Have consecutively numbered pages.

• Use black type not smaller than 12 characters per one inch.

• Contain a narrative that does not exceed 7 typed pages that includes the other submission requirements below. The 7 page narrative does not include the work plan, standard forms, Tribal resolutions or letters of support (if necessary), table of contents, budget, budget justifications, narratives, and/or other appendix items.

Public Policy Requirements: All Federal-wide public policies apply to IHS grants with the exception of Lobbying and Discrimination.

3. Submission Dates and Times:

Applications must be submitted electronically through Grants.gov by 12 midnight Eastern Standard Time (EST). If technical challenges arise and the applicant is unable to successfully complete the electronic application process, the applicant should contact Michelle G. Bulls, Grants Policy Staff, fifteen days prior to the application deadline and advise of the difficulties that your organization is experiencing. The grantee must obtain prior approval, in writing (e-mails are acceptable) allowing the paper submission. If submission of a paper application is requested and approved, the original and two copies may be sent to the appropriate grants contact that is listed in Section IV above. Applications not submitted through Grants.gov, without an approved waiver, may be returned to the applicant without review or consideration. Late applications will not be accepted for processing, will be returned to the applicant and will not be considered for funding.

4. Intergovernmental Review:

Executive Order 12372 requiring intergovernmental review is not applicable to this program.

5. Funding Restrictions:

• Pre award costs are allowable pending prior approval from the awarding agency. However, in accordance with 45 CFR part 74 all pre award costs are incurred at the recipient's risk. The awarding office is under no obligation to reimburse such costs if for any reason the applicant does not receive an award or if the award to the recipient is less than anticipated.

• The available funds are inclusive of direct and appropriate indirect costs.

• Only one grant will be awarded per applicant.

• IHS will not acknowledge receipt of applications.

Electronic Submission—The preferred method for receipt of applications is electronic submission through Grants.gov. However, should any technical challenges arise regarding the submission, please contact Grants.gov Customer Support at 1-800-518-4726 or support@grants.gov. The Contact Center hours of operation are Monday-Friday from 7 a.m. to 9 p.m. EST. If you require additional assistance please call (301) 443-6290 and identify the need for assistance regarding your Grants.gov application. Your call will be transferred to the appropriate grants staff member. The applicant must seek assistance at least fifteen days prior to the application deadline. Applicants that do not adhere to the timelines for Central Contractor Registry (CCR) and/or Grants.gov registration and/or requesting timely assistance with technical issues will not be a candidate for paper applications.

To submit an application electronically, please use the Grants.gov Search: www.grants.gov. Download a copy of the application package on the Grants.gov Web site, complete it offline and then upload and submit the application via the Grants.gov site. You may not e-mail an electronic copy of a grant application to IHS.

Please be reminded of the following:

• Under the new IHS application submission requirements, paper applications are not the preferred method. However, if you have technical problems submitting your application on line, please directly contact Grants.gov Customer Support at: http://www.grants.gov/CustomerSupport.

• Upon contacting Grants.gov obtain a tracking number as proof of contact. The tracking number is helpful if there are technical issues that cannot be resolved and a waiver request from Grants Policy must be obtained.

• If it is determined that a formal waiver is necessary, the applicant must submit a request, in writing (e-mails are acceptable), to Michelle.Bulls@ihs.gov that includes a justification for the need to deviate from the standard electronic submission process. Upon receipt of approval, a hard copy application package must be downloaded by the applicant from Grants.gov, and sent directly to the Division of Grants Operations (DGO), 801 Thompson Avenue, TMP 360, Rockville, MD 20852 by the due date, May 7, 2007.

• Upon entering the Grants.gov site, there is information available that outlines the requirements to the applicant regarding electronic submission of an application through Grants.gov, as well as the hours of operation. Applicants must not wait until the deadline date to begin the application process through Grants.gov as the registration process for CCR could take up to fifteen working days.

• To use Grants.gov, you, as the applicant, must have a DUNS Number and register in the CCR. You should allow a minimum of ten days working days to complete CCR registration. See below on how to apply.

• You must submit all documents electronically, including all information typically included on the SF-424 and all necessary assurances and certifications.

• Please use the optional attachment feature in Grants.gov to attach additional documentation that may be requested by IHS.

• If Tribal resolutions or letters of support are required, pleas include them as an attachment in your electronic application.

• Your application must comply with any page limitation requirements described in the program announcement.

• After you electronically submit your application, you will receive an automatic acknowledgement from Grants.gov that contains a Grants.gov tracking number. The DGO will retrieve your application from Grants.gov. The DGO will not notify applicant from Grants.gov. The DGO will not notify applicants that the application has been received.

• You may access the electronic application for this program on http://www.Grants.gov.

• You may search for the downloadable application package using the CFDA number or the Funding Opportunity Number. Both numbers are identified in the heading of this announcement.

• The applicant must provide the Funding Opportunity Number: HHS-IHS-2007-INPSY-0001.

Again, e-mail applications will not accepted under this announcement.

DUNS Number

Applicants are required to have a Dun and Bradstreet (DUNS) number to apply for a grant or cooperative agreement from the Federal Government. The DUNS number is a nine digit identification number, which uniquely identifies business entities. Obtaining a DUNS number is easy and there is no charge. To obtain a DUNS number, access http://www.dunandbradstreet.com or call 866-705-5711. Interested parties may wish to obtain their DUNS number by phone to expedite the process.

Applications submitted electronically must be also be registered with the Central Contractor Registry (CCR). A DUNS number is required before CCR registration can be completed. Many organizations may already have a DUNS number. Please use the number listed above to investigate whether or not your organization has a DUNS number. Registration with the CCR is free of charge.

Applicants may register by calling 1-888-227-2423. Please review and complete the CCR Registration Worksheet located on http://www.grants.gov/CCRRegister.

More detailed information regarding these registration processes can be found at http://www.grants.gov.

V. Application Review Information

Criteria

1. Introduction and Potential Effectiveness of Project (30 pts.)

a. Describe your legal status and organization.

b. State specific objectives of the project, and the extent to which they are measurable and quantifiable, significant to the needs of Indian people, logical, complete, and consistent with the purpose of section 217.

c. Describe briefly what the project intends to accomplish. Identify the expected results, benefits, and outcomes or projects to be derived from each objective of the project.

d. Provide a project specific work plan (milestone chart) which lists each objective, the tasks to be conducted in order to reach the objective, and the time fame needed to accomplish each task. Time frames should be projected in a realistic manner to assure that the scope of work can be completed within each budget period. (A work plan format is provided.)

e. In the case of proposed projects for identification of Indians with a potential for education or training in the health professions, include a method for assessing the potential of interested Indians for undertaking necessary education or training in such health professions.

f. State clearly the criteria by which the project's progress will be evaluated and by which the success of the project will be determined.

g. Explain the methodology that will be used to determine if the needs, goals, and objectives identified and discussed in the application are being met and if the results and benefits identified are being achieved.

h. Identify who will perform the evaluation and when.

2. Project Administration (20 pts.)

a. Provide an organizational chart and describe the administrative, managerial and organizational arrangements and the facilities and resources to be utilized to conduct the proposed project (include in appendix).

b. Provide the name and qualifications of the project director or other individuals responsible for the conduct of the project; the qualifications of the principal staff carrying out the project; and a description of the manner in which the applicant's staff is or will be organized and supervised to carry out the proposed project. Include biographical sketches of key personnel (or job descriptions if the position is vacant) (include in appendix).

c. Describe any prior experience in administering similar projects.

d. Discuss the commitment of the organization, i.e., although not required, the level of non-Federal support. List the intended financial participation, if any, of the applicant in the proposed project specifying the type of contributions such as cash or services, loans of full or part-time staff, equipment, space, materials or facilities or other contributions.

e. Describe the ability or provide outreach and recruitment for health professions to Indian communities including elementary and secondary schools and community colleges located on Indian reservations which will be served by the program.

f. Incorporate a program advisory board comprised of representatives from the Tribes and communities which will be served by the program.

g. To the maximum extent feasible, employ qualified Indians in the program.

3. Accessibility to Target Population (20 pts.)

a. Describe the current and proposed participation of Indians (if any) in your organization.

b. Identify the target Indian population to be served by your proposed project and the relationship of your organization to that population.

c. Describe the methodology to be used to access the target population.

d. Identify affiliation agreements with Tribal community colleges, the IHS, university affiliated programs, and other appropriate entities to enhance the education of Indian students.

e. Identify existing university tutoring, counseling and student support services.

4. Relationship of Objectives to Manpower Deficiencies (20 pts.)

a. Provide data and supporting documentation to substantiate need for recruitment.

b. Indicate the number of potential Indian students to be contacted and recruited as well as potential cost per student recruited. Those project that have the potential to serve a greater number of Indians will be given first consideration.

5. Project Budget (10 pts.)

a. Clearly define the budget. Provide a justification and detailed breakdown of the funding by category for the first year of the project. Information on the project director and project staff should include salaries and percentage of time assigned to the grant. List equipment purchases necessary to conduct of the project.

b. The available funding level of $246,332 is inclusive of both direct and indirect costs or 8 percent of total direct costs. Because this project is for a training grant, the Department of Health and Human Services' policy limiting reimbursement of indirect cost tot he lesser of the applicant's actual indirect costs or 8 percent of total direct costs (exclusive of tuition and related fees and expenditures for equipment) is applicable. This limitation applies to all institutions of higher education.

c. The applicant may include as a direct cost tuition and student support for students who have been selected to receive a scholarship through the American Indians into Psychology Program grant. Scholarship support consists of full tuition/fees and a monthly stipend for 12 months. The current stipend is to be $1250.00 per month and adjusted annually at 2%.

d. Projects requiring a second and third year must include a program narrative and categorical budget and justification for each additional year of funding requested (this is not considered part of the 15-page narrative).

e. Provide budgetary information for summer preparatory programs for Indian students, who need enrichment in the subjects of math and science in order to pursue training in the health professions.

f. Provide budget information on stipends that will be provided to undergraduate and graduate students to pursue a career in clinical psychology. Stipends for individuals will not be funded during the first year of the project only if the grantee has not had an established American Indians into Psychology Program grant because the first year will involve recruiting individuals. Stipends must be included in the budget and narrative for the second and third years of the project.

Multi-Year Project Requirements

1. Applications must include a narrative, budget, and budget justification for the second and third years of funding.

Appendix to include:

a. Resumes and position descriptions.

b. Organizational Chart.

c. Work Plan.

d. Tribal Resolution(s)/letters of support.

2. Review and Selection Process.

Applications meeting eligibility requirements that are complete, responsive, and conform to this program announcement will be reviewed by an Objective Review Committee (ORC) in accordance with IHS objective review procedures The objective review process ensures a nationwide competition for limited funding. The ORC will be comprised of IHS (40% or less) or other Federal individuals and (60% or more) non-Federal individuals with appropriate expertise. The ORC will review each application against established criteria. Based upon the evaluation criteria, the reviewer will assign a numerical score to each application, which will be used in making the final funding decision. Approved applications scoring less than 60 points will not be considered for funding.

The results of the review are forwarded to the Director, Office of Public Health Support (OPHS), for final review and approval. The Director, OPHS, will also consider the recommendations from the Division of Health Professions Support and the Division of Grants Operations (DGO).

3. Anticipated Announcement and Award Dates.

The IHS anticipates an awards start date of August 1, 2007.

VI. Award Administration Information

1. Award Notices

The Notice of award (NoA) will be initiated by the DGO and will be mailed via postal mail on or before June 22, 2007 to each entity that is approved for funding under this announcement. The NoA will be signed by the Grants Management Officer and this is the authorizing document for which funds are dispersed to the approved entities. The NoA will serve as the official notification of the grant award and will reflect the amount of Federal funds awarded, the purpose of the grant, the terms and conditions of the award, the effective date of the award, and the budget/project period. The NoA is the legal binding document. Applicants who are approved but unfunded or disapproved based on their Objective Review score will receive a copy of the Executive Summary which identifies the weaknesses and strengths of the application submitted.

2. Administrative Requirements

Grants are administered in accordance with the following documents:

• This Program Announcement.

• 45 CFR Part 92, A Uniform Administrative Requirements for Grants and Cooperative Agreements to State, Local and Tribal Governments, or 45 CFR Part 74, A Uniform Administrative Requirements for Awards to Institutions of Higher Education, Hospitals, Other Non Profit Organizations, and Commercial Organizations.

• Grants Policy Guidance: HHS Grants Policy Statement, October 2006.

• Cost Principles: OMB Circular A 87, State, Local, and Indian (title 2 Part 225).

• Administrative Requirements: OMB Circular A 122, A Non profit Organizations (title 2 Part 230).

• Audit Requirements: OMB Circular A 133, Audits of States, Local Governments, and Non profit Organizations.

3. Indirect Costs: This section applies to all grant recipients that request indirect costs in their application. In accordance with HHS Grants Policy Statement, Part II 27, IHS requires applicants to have a current indirect cost rate agreement in place prior to award. The rate agreement must be prepared in accordance with the applicable cost principles and guidance as provided by the cognizant agency or office. A current rate means the rate covering the applicable activities and the award budget period. If current rate is not on file with the awarding office, the award shall include funds for reimbursement of indirect costs. However, the indirect cost portion will remain restricted until the current rate is provided to DGO.

Generally, indirect cost rates for IHS Tribal organization grantees are negotiated with the Division of Cost Allocation (DCA) at http://rates.psc.gov/, and indirect cost rates that are for IHS-funded, Federally-recognized Tribes are negotiated with the Department of Interior. If your organization has questions regarding the indirect cost policy, please contact the DGO at (301) 443-5204.

4. Reporting

A. Progress Report. Program progress reports are required semi-annually. these reports will include a brief comparison of actual accomplishments to the goals established for the period, reasons for unmet accomplishments (if applicable), and other pertinent information as required. A final report must be submitted within 90 days of expiration of the budget/project period.

B. Financial Status Report. Semi-annual financial status reports must be submitted within 30 days of the end of the half year. Final financial status reports are due within 90 days of expiration of the budget/project period. Standard Form 269 (long form) will be used for financial reporting.

C. Reports. Grantees are responsible and accountable for accurate reporting of the Progress Reports and Financial Status Reports which are due semi annually. Financial Status Reports (SF 269) are due 90 days after each budget period and the final SF 269 must be verified from the grantee records on how the value was derived. Grantees must submit reports in a reasonable period of time.

Failure to submit required reports within the time allowed may result in suspension or termination of an active grant, withholding of additional awards for the project, or other enforcement actions such as withholding of payments or converting to the reimbursement method of payment. Continued failure to submit required reports may result in one or both of the following: (1) The imposition of special award provisions; and (2) the non funding or non award of other eligible projects or activities. This applies whether the delinquency is attributable to the failure of the grantee organization or the individual responsible for preparation of the reports.

5. Telecommunication for the hearing impaired is available at: TTY 301-443-6394.

VII. Agency Contacts

For program information, contact Mrs. Patricia Lee-McCoy, Office of Public Health support, Division of Health Professions Support, 801 Thompson Avenue, TMP Suite 120, Rockville, Maryland 20852, (301) 443-6197, or Mr. Michael Berryhill, Office of Public Health Support, Division of Health Professions Support, 801 Thompson Avenue, TMP Suite 120, Rockville, Maryland 20852 (301) 443-6197. For grant application and business management information, contact Ms. Martha Redhouse, Division of Grants Operations, Indian Health Service, 801 Thompson Avenue, TMP Suite 120, Rockville, Maryland 20852 (301) 443-5204.

Dated: March 22, 2007.
Phyllis Eddy,
Deputy Director for Management Operations, Indian Health Service.

[FR Doc. 07-1498 Filed 3-27-07; 8:45 am]

BILLING CODE 4165-16-M